DEPARTMENT OF COMMERCE

National Oceanic and Atmospheric Administration

50 CFR Part 622

[Docket No. 0911051395-0145-01]

RIN 0648-AY32

Fisheries of the Caribbean, Gulf of Mexico, and South Atlantic; Comprehensive Ecosystem-Based Amendment for the South Atlantic Region

AGENCY: National Marine Fisheries Service (NMFS), National Oceanic and Atmospheric Administration (NOAA), Commerce.

ACTION: Proposed rule; request for comments.

SUMMARY: NMFS issues this proposed rule to implement the Comprehensive Ecosystem-Based Amendment 1 (CE-BA1) to the following South Atlantic fishery management plans (FMPs): The FMP for Coral, Coral reefs, and Live/Hard Bottom Habitats of the South Atlantic Region (Coral FMP); the FMP for the Dolphin and Wahoo Fishery off the Atlantic States (Dolphin and Wahoo FMP); the FMP for Golden Crab of the South Atlantic Region (Golden Crab FMP); the FMP for the Shrimp Fishery of the South Atlantic Region (Shrimp FMP); and the FMP for the Snapper-Grouper Fishery of the South Atlantic Region (Snapper-Grouper FMP), as prepared and submitted by the South Atlantic Fishery Management Council (Council); as well as the FMP for Coastal Migratory Pelagic (CMP) Resources (CMP FMP); and the FMP for the Spiny Lobster Fishery of the Gulf of Mexico and South Atlantic (Spiny Lobster FMP), as prepared and submitted by the South Atlantic and Gulf of Mexico Fishery Management Councils. This proposed rule would establish Deepwater Coral Habitat Areas of Particular Concern (Deepwater Coral HAPCs) off the coast of the southern Atlantic States in which the use of specified fishing gear and methods and the possession of coral would be prohibited. Within the Deepwater Coral HAPCs, fishing zones would be created that would allow continued fishing on the historical grounds for golden crab and deepwater shrimp. In addition, CE-BA1 would update existing Essential Fish Habitat (EFH) information in the area off the southern Atlantic States, thus, addressing the need for spatial representation of designated EFH and EFH-HAPCs. The intended effects of this rule are to protect what is thought to be the largest distribution of pristine deepwater coral ecosystems in the world while minimizing the effects on traditional fishing in the Deepwater Coral HAPCs.

DATES: Written comments on this proposed rule must be received no later than 5 p.m., eastern time, on May 10, 2010.

ADDRESSES: You may submit comments, identified by RIN 0648-AY32, by any one of the following methods:

• Electronic Submissions: Submit all electronic public comments via the Federal eRulemaking Portal http://www.regulations.gov

• Fax: 727-824-5308, Attn: Karla Gore

• Mail: Karla Gore, Southeast Regional Office, NMFS, 263 13th Avenue South, St. Petersburg, FL 33701

Instructions: No comments will be posted for public viewing until after the comment period has closed. All comments received are a part of the public record and will generally be posted to http://www.regulations.gov without change. All Personal Identifying Information (for example, name, address, etc.) voluntarily submitted by the commenter may be publicly accessible. Do not submit Confidential Business Information or otherwise sensitive or protected information.

To submit comments through the Federal e-Rulemaking Portal: http://www.regulations.gov, enter “NOAA-NMFS-2009-0158” in the keyword search, then select “Send a Comment or Submission.” NMFS will accept anonymous comments. Enter N/A in the required field if you wish to remain anonymous. Attachments to electronic comments will be accepted in Microsoft Word, Excel, WordPerfect, or Adobe PDF file formats only.

Copies of CE-BA1 may be obtained from the South Atlantic Fishery Management Council, 4055 Faber Place, Suite 201, North Charleston, SC 29405; phone: 843-571-4366 or 866-SAFMC-10 (toll free); fax: 843-769-4520; e-mail: safmc@safmc.net. CE-BA1 includes a Final Environmental Impact Statement (FEIS), an Initial Regulatory Flexibility Analysis (IRFA), a Regulatory Impact Review, and a Social Impact Assessment/Fishery Impact Statement.

FOR FURTHER INFORMATION CONTACT: Karla Gore, telephone: 727-824-5305.

SUPPLEMENTARY INFORMATION: The fisheries for coastal migratory pelagics; coral, coral reefs, and live/hard bottom habitats; dolphin and wahoo; golden crab; shrimp; spiny lobster; and snapper-grouper off the southern Atlantic States are managed under their respective FMPs. The FMPs were prepared by the Council(s) and are implemented under the authority of the Magnuson-Stevens Fishery Conservation and Management Act (Magnuson-Stevens Act) by regulations at 50 CFR part 622.

Deepwater Coral HAPCs

Deepwater corals are slow growing and easily damaged by bottom-tending gear. Areas of deepwater coral provide hard substrates and habitat for a biologically rich and diverse community of associated fish and invertebrates. More than 99 species of fish and invertebrates are associated with deepwater coral habitats, including commercial species such as wreckfish, deepwater groupers, and golden crab.

The proposed rule would establish five Deepwater Coral HAPCs: Cape Lookout Lophelia Banks Deepwater Coral HAPC, Cape Fear Lophelia Banks Deepwater Coral HAPC, Stetson-Miami Terrace Deepwater Coral HAPC, Pourtales Terrace Deepwater Coral HAPC, and Blake Ridge Diapir Deepwater Coral HAPC. These Deepwater Coral HAPCs would provide positive biological benefits to the deepwater corals and to the species that rely on these areas. In all of the proposed Deepwater Coral HAPCs, possession of coral species and the use of bottom longline, trawl (mid-water and bottom), dredge, pot, or trap gear would be prohibited. The use of anchor, anchor and chain, or grapple and chain would also be prohibited within the Deepwater Coral HAPCs. The fishery for wreckfish would not be affected since the use of bottom tending hook-and-line gear used in that fishery would not be prohibited in the proposed Deepwater Coral HAPCs. Similarly, the use of hook-and-line gear commonly used in the snapper-grouper fishery would not be prohibited.

Given the slow-growth of these deepwater corals, the restrictions in this proposed rule would be expected to result in long-term biological benefits to deepwater coral habitat as well as the species that utilize this habitat.

Shrimp Fishery Access Areas

This rule would designate four portions of one of the Deepwater Coral HAPCs as shrimp fishery access areas. In these areas, an owner or operator of a vessel for which a valid commercial vessel permit for rock shrimp (South Atlantic EEZ) has been issued would be allowed to trawl for and possess shrimp. Such vessels are required to have an operating vessel monitoring system (VMS) approved by NMFS for use in the South Atlantic rock shrimp fishery on board when on a trip in the South Atlantic.

The proposed shrimp fishery access areas are areas where shrimp fishermen have traditionally trawled when fishing for deepwater shrimp and where damage to bottom habitat is already expected to have occurred during fishing operations. Currently, these areas are experiencing low levels of shrimp fishing effort. Because damage to deepwater coral is already expected to have occurred and current shrimp fishing effort levels are low, further habitat degradation in these areas is not likely.

Golden Crab Fishery Access Areas

This rule would designate five portions of the Deepwater Coral HAPCs as golden crab fishery access areas. In these areas, an owner or operator of a vessel for which a valid commercial permit for South Atlantic golden crab has been issued would be allowed to use a trap to fish for golden crab and use a grapple and chain while engaged in such fishing. Access to a specific area would be contingent on the zone restrictions stated on the vessel's permit for South Atlantic golden crab.

The proposed golden crab fishery access areas are areas traditionally fished for golden crab. The golden crab fishermen avoid setting their traps on coral to protect their gear as well as the coral habitat, and therefore, damage to deepwater coral in these areas is expected to be minimal. Currently, these areas are heavily regulated and experience low levels of golden crab fishing effort. Because damage to deepwater coral is unlikely to occur and current golden crab fishing effort levels are low, further habitat degradation in these areas is not likely.

Additional Measures in CE-BA1

CE-BA1 proposes to update existing EFH information regarding the area off the southern Atlantic States by including spatial representation of previously designated EFH and EFH-HAPCs in a Geographic Information System. The addition of this information does not change EFH specifications currently in the FMPs and does not require any change in regulatory language.

Amendments to FMPs

The Deepwater Coral HAPCs and the additional measures in CE-BA1, discussed above, constitute amendments to FMPs as follows: Amendment 19 to the CMP FMP; Amendment 6 to the Coral FMP; Amendment 1 to the Dolphin and Wahoo FMP; Amendment 4 to the Golden Crab FMP; Amendment 8 to the Shrimp FMP; Amendment 5 to the Spiny Lobster FMP; and Amendment 19 to the Snapper-Grouper FMP.

Availability of CE-BA1

Additional background and rationale for the measures discussed above are contained in CE-BA1. The availability of CE-BA1 was announced in the Federal Register on March 4, 2010 (75 FR 9864). Written comments on CE-BA1 must be received by May 3, 2010. All comments received on CE-BA1 or on this proposed rule during their respective comment periods will be addressed in the preamble to the final rule.

Classification

Pursuant to section 304(b)(1)(A) of the Magnuson-Stevens Act, the NMFS Assistant Administrator has determined that this proposed rule is consistent with the FMPs subject to this rulemaking, other provisions of the Magnuson-Stevens Act, and other applicable law, subject to further consideration after public comment.

This proposed rule has been determined to be not significant for purposes of Executive Order 12866.

NMFS prepared a Draft Environmental Impact Statement (DEIS) for this amendment. A notice of availability for the DEIS was published on July 24, 2009 (74 FR 36706).

NMFS prepared an IRFA, as required by section 603 of the Regulatory Flexibility Act, for this proposed rule. The IRFA describes the economic impact this proposed rule, if adopted, would have on small entities. A description of the action, why it is being considered, and the objectives of and legal basis for this action are contained at the beginning of this section in the preamble and in the SUMMARY section of the preamble. A copy of the full analysis is available from the Council (see ADDRESSES). A summary of the IRFA follows.

This proposed rule would establish Deepwater Coral HAPCs off the coast of the southern Atlantic States in which the use of specified fishing gear and methods and the possession of coral would be prohibited. Within the Deepwater Coral HAPCs, fishing zones would be created that would allow continued fishing on the historical grounds for golden crab and deepwater shrimp. The Magnuson-Stevens Act provides the statutory basis for this proposed rule.

No duplicative, overlapping, or conflicting Federal rules have been identified. However, similar to the proposed rule, which would prohibit the use of bottom longlines in the Deepwater Coral HAPCs, current regulation (50 CFR 622.31(d)) prohibits the use of bottom longlines in the wreckfish fishery in the South Atlantic EEZ. Also, similar to the proposed rule, which would prohibit the use of traps in the Deepwater Coral HAPCs, current regulation (50 CFR 622.31(c)) prohibits the use of fish traps in the South Atlantic EEZ. Finally, similar to the proposed rule, which would prohibit the possession of coral within the Deepwater Coral HAPCs, current regulation (50 CFR 622.32(b)(3)(i)) does not allow “Gulf and South Atlantic prohibited coral” (50 CFR 622.2) to be sold or purchased, and, when taken as incidental catch, the prohibited coral must be returned immediately to the sea in the general area of fishing. This proposed rule would directly affect commercial fishing entities that operate in the proposed Deepwater Coral HAPCs and use bottom longline gear, trawls (mid-water and bottom), dredges, pots, or traps; anchor and chain; or grapple and chain; and/or possess coral in these Deepwater Coral HAPCs. Although many commercial species are found in the proposed areas, only wreckfish, golden crab, and royal red shrimp are known to be presently harvested in these areas. However, if any snapper-grouper species are caught in the proposed Deepwater Coral HAPCs, the proposed rule would not prohibit snapper-grouper fishermen, such as those that harvest wreckfish, from deploying commonly used gear, such as rod and reel, bandit, and handline gear. Hence, the only entities expected to be directly affected by this proposed rule are those that fish for golden crab or royal red shrimp.

This proposed rule includes provisions that reduce the adverse economic effects on golden crab and royal red shrimp fishing vessels. First, the proposed Shrimp Fishery Access Areas would be areas within the Deepwater Coral HAPCs where royal red shrimp fishing vessels with a valid commercial vessel permit for rock shrimp (South Atlantic EEZ) and equipped with an approved VMS would be allowed to continue to operate in the historical royal red shrimp fishing areas without added restrictions. Second, the proposed Golden Crab Fishery Access Areas would be areas within the proposed Deepwater Coral HAPCs where golden crab fishing vessels would be allowed to continue to operate in historic fishing areas without added restrictions.

There are six vessels that fish for royal red shrimp in the South Atlantic and, at present, two of these vessels are believed to fish for the species full time. Atlantic and Gulf of Mexico landings of royal red shrimp combined peaked at approximately 507,000 lbs (229,971 kg) in 2007. With an average price of $4 per pound, total revenue from these landings was approximately $2 million, or approximately $333,000 per vessel. Most vessels that fish for royal red shrimp operate in other shrimp fisheries, such as the rock shrimp fishery, and are expected to own a commercial vessel permit for rock shrimp (South Atlantic EEZ), however, this is uncertain from available data. The individual and combined annual revenues from all fishing activities of royal red shrimp vessels is unknown.

Seven vessels reported landings of golden crab from 2004 to 2007, although there were 11 vessels with an annual permit to fish for or possess golden crab in, or off-load or sell golden crab from, the South Atlantic EEZ. Total dockside revenue from golden crab sales averaged $714,000 annually during the 3-year period, or approximately $102,000 annually per vessel. Vessels that operate in this crab fishery typically do not participate in other fisheries, and therefore the golden crab revenues generated by these vessels can be assumed to be the total annual revenues for these vessels.

The vessels that fish for royal red shrimp and golden crab represent businesses in the shellfish fishing industry (NAICS 114112). A small business in the shellfish fishing industry does not have annual receipts in excess of $4.0 million, is independently owned and operated and is not dominant in its field of operations. Based on the average revenue information provided above, all vessels that operate in the royal red shrimp and golden crab fisheries are determined for the purpose of this analysis to be small businesses.

This proposed rule would allow royal red shrimp fishing vessels with a commercial vessel permit for rock shrimp (South Atlantic EEZ) and equipped with an approved VMS to continue fishing in their historic fishing areas. Vessels that fish for royal red shrimp are not required to have a commercial vessel permit for rock shrimp (South Atlantic EEZ) and an approved VMS, however, because they use similar gear as rock shrimp vessels, royal red shrimp vessels are likely to have both a commercial vessel permit for rock shrimp (South Atlantic EEZ) and a VMS. As a result, this proposed rule would not be expected to have any adverse economic impact on vessels that operate in the royal red shrimp fishery.

Golden crab fishing currently occurs in the proposed Stetson-Miami Terrace Deepwater Coral HAPC and Pourtales Terrace Deepwater Coral HAPC. The three proposed Golden Crab Fishery Access Areas, including the Golden Crab Northern and Middle Access Areas within the proposed Stetson-Miami Terrace Deepwater Coral HAPC and the Golden Crab Southern Access Area within the proposed Pourtales Terrace Deepwater Coral HAPC, would allow golden crab fishing vessels to continue current fishing practices in the traditional fishing areas. As a result, this proposed rule would not be expected to have any adverse economic impact on any vessels that operate in the golden crab fishery.

No other potential direct adverse economic impacts on small entities have been identified. Thus, it is expected that this proposed rule would not result in a significant economic impact on a substantial number of small entities. However, NMFS specifically invites comments on this finding.

Two alternatives, including the status quo no-action alternative, were considered for the action to establish Deepwater Coral Habitat Areas of Particular Concern (Deepwater Coral HAPCs). The proposed rule would establish five Deepwater Coral HAPCs: Cape Lookout Lophelia Banks Deepwater Coral HAPC, Cape Fear Lophelia Banks Deepwater Coral HAPC, Stetson-Miami Terrace Deepwater Coral HAPC, Pourtales Terrace Deepwater Coral HAPC, and Blake Ridge Diapir Deepwater Coral HAPC. In all of the proposed Deepwater Coral HAPCs, possession of coral species and the use of bottom longline, trawl (mid-water and bottom), dredge, pot, or trap gear would be prohibited. The use of anchor, anchor and chain, or grapple and chain would also be prohibited within the Deepwater Coral HAPCs. The status quo would not establish Deepwater Coral HAPCs and would not achieve the Council's objectives.

Three alternatives, including the status quo no-action alternative, were considered to reduce the adverse economic impact of the establishment of Deepwater Coral HAPCs on small businesses that harvest royal red shrimp. The royal red shrimp fishery operates almost exclusively within an area inshore of, but also along, the western boundary of the proposed Stetson-Miami Terrace Deepwater Coral HAPC. This proposed rule would protect vulnerable deepwater corals and reduce the adverse economic impact on royal red shrimp fishermen by creating a Shrimp Fishery Access Area within the Stetson-Miami Terrace Deepwater Coral HAPC where fishing with a shrimp trawl and shrimp possession would be allowed by any royal red shrimp fishing vessel holding a commercial vessel permit for rock shrimp (South Atlantic EEZ) and equipped with an approved VMS. The status quo no-action alternative would not allow continued fishing by royal red shrimp vessels and, as a result, would have the largest adverse economic impact on royal red shrimp fishing vessels caused by the creation of the Deepwater Coral HAPCs. The other alternative to the proposed action would move the western boundary of the Stetson-Miami Terrace Deepwater Coral HAPC and eliminate the adverse economic impact on royal red shrimp fishing vessels; however, it would not protect vulnerable deepwater corals and, as a result, would not achieve the Council's objectives.

Three alternatives, including the status quo no-action alternative, were considered to reduce the adverse economic impact of the establishment of Deepwater Coral HAPCs on small businesses that fish for golden crab. This proposed rule would create three Golden Crab Fishery Access Areas, which would substantially reduce the adverse economic impact on golden crab fishing vessels caused by the creation of the Deepwater Coral HAPCs. The status quo no-action alternative would not create the allowable fishing areas and, as a result, would have the largest adverse economic impact on small businesses that fish for golden crab because it would prohibit fishing in almost all golden crab fishing areas. The other alternative would position part of the Golden Crab Fishery Access Areas on historical royal red shrimp fishing grounds. As a result, this alternative would reduce the direct adverse economic impact of the establishment of the Deepwater Coral HAPCs on small businesses that fish for golden crab, but it could have negative economic impacts to both shrimp and golden crab fishing vessels in the future due to gear conflicts. None of the three Golden Crab Fishery Access Areas created by this proposed rule are located in historical royal red shrimp fishing areas.

Three alternatives, including the status quo no-action alternative, were considered to amend the Golden Crab FMP to require a VMS on board fishing vessels that harvest golden crab. This proposed rule, which would maintain the status quo, would not require a VMS for this fishery and would not result in the added cost to golden crab fishing businesses. The second alternative would require a VMS on board any vessel that fishes for golden crab in the Golden Crab Fishery Access Areas, and the third alternative would require a VMS on board any vessel fishing in the South Atlantic EEZ with a limited access golden crab permit. Both non-status quo alternatives would impose additional costs on small businesses in the fishery, while the status quo alternative would not.

List of Subjects in 50 CFR Part 622

Fisheries, Fishing, Puerto Rico, Reporting and recordkeeping requirements, Virgin Islands.

Dated: March 22, 2010.
Samuel D. Rauch III,
Deputy Assistant Administrator for Regulatory Programs, National Marine Fisheries Service.

For the reasons set out in the preamble, 50 CFR part 622 is proposed to be amended as follows:

PART 622—FISHERIES OF THE CARIBBEAN, GULF, AND SOUTH ATLANTIC

1. The authority citation for part 622 continues to read as follows:

Authority: 16 U.S.C. 1801 et seq.

2. In § 622.35, paragraph (m) is added to read as follows:

§ 622.35 Atlantic EEZ seasonal and/or area closures.

* * * * *

(m) Deepwater Coral HAPCs—(1) Locations. The following areas are designated Deepwater Coral HAPCs:

(i) Cape Lookout Lophelia Banks is bounded by rhumb lines connecting, in order, the following points:

Point | North lat. | West long.
Origin | 34°24′37″ | 75°45′11″
1 | 34°10′26″ | 75°58′44″
2 | 34°05′47″ | 75°54′54″
3 | 34°21′02″ | 75°41′25″
Origin | 34°24′37″ | 75°45′11″

(ii) Cape Fear Lophelia Banks is bounded by rhumb lines connecting, in order, the following points:

Point | North lat. | West long.
Origin | 33°38′49″ | 76°29′32″
1 | 33°32′21″ | 76°32′38″
2 | 33°29′49″ | 76°26′19″
3 | 33°36′09″ | 76°23′37″
Origin | 33°38′49″ | 76°29′32″

(iii) Stetson Reefs, Savannah and East Florida Lithotherms, and Miami Terrace (Stetson-Miami Terrace) is bounded by—

(A) Rhumb lines connecting, in order, the following points:

Point | North lat. | West long.
Origin | 28°17′10″ | 79°00′00″
1 | 31°23′37″ | 79°00′00″
2 | 31°23′37″ | 77°16′21″
3 | 32°38′37″ | 77°16′21″
4 | 32°38′21″ | 77°34′06″
5 | 32°35′24″ | 77°37′54″
6 | 32°32′18″ | 77°40′26″
7 | 32°28′42″ | 77°44′10″
8 | 32°25′51″ | 77°47′43″
9 | 32°22′40″ | 77°52′05″
10 | 32°20′58″ | 77°56′29″
11 | 32°20′30″ | 77°57′50″
12 | 32°19′53″ | 78°00′49″
13 | 32°18′44″ | 78°04′35″
14 | 32°17′35″ | 78°07′48″
15 | 32°17′15″ | 78°10′41″
16 | 32°15′50″ | 78°14′09″
17 | 32°15′20″ | 78°15′25″
18 | 32°12′15″ | 78°16′37″
19 | 32°10′26″ | 78°18′09″
20 | 32°04′42″ | 78°21′27″
21 | 32°03′41″ | 78°24′07″
22 | 32°04′58″ | 78°29′19″
23 | 32°06′59″ | 78°30′48″
24 | 32°09′27″ | 78°31′31″
25 | 32°11′23″ | 78°32′47″
26 | 32°13′09″ | 78°30′04″
27 | 32°14′08″ | 78°34′36″
28 | 32°12′48″ | 78°36′34″
29 | 32°13′07″ | 78°39′07″
30 | 32°14′17″ | 78°40′01″
31 | 32°16′20″ | 78°40′18″
32 | 32°16′33″ | 78°42′32″
33 | 32°14′26″ | 78°43′23″
34 | 32°11′14″ | 78°45′42″
35 | 32°10′19″ | 78°49′08″
36 | 32°09′42″ | 78°52′54″
37 | 32°08′15″ | 78°56′11″
38 | 32°05′00″ | 79°00′30″
39 | 32°01′54″ | 79°02′49″
40 | 31°58′40″ | 79°04′51″
41 | 31°56′32″ | 79°06′48″
42 | 31°53′27″ | 79°09′18″
43 | 31°50′56″ | 79°11′29″
44 | 31°49′07″ | 79°13′35″
45 | 31°47′56″ | 79°16′08″
46 | 31°47′11″ | 79°16′30″
47 | 31°46′29″ | 79°16′25″
48 | 31°44′31″ | 79°17′24″
49 | 31°43′20″ | 79°18′27″
50 | 31°42′26″ | 79°20′41″
51 | 31°41′09″ | 79°22′26″
52 | 31°39′36″ | 79°23′59″
53 | 31°37′54″ | 79°25′29″
54 | 31°35′57″ | 79°27′14″
55 | 31°34′14″ | 79°28′24″
56 | 31°31′08″ | 79°29′59″
57 | 31°30′26″ | 79°29′52″
58 | 31°29′11″ | 79°30′11″
59 | 31°27′58″ | 79°31′41″
60 | 31°27′06″ | 79°32′08″
61 | 31°26′22″ | 79°32′48″
62 | 31°24′21″ | 79°33′51″
63 | 31°22′53″ | 79°34′41″
64 | 31°21′03″ | 79°36′01″
65 | 31°20′00″ | 79°37′12″
66 | 31°18′34″ | 79°38′15″
67 | 31°16′49″ | 79°38′36″
68 | 31°13′06″ | 79°38′19″
70 | 31°11′04″ | 79°38′39″
70 | 31°09′28″ | 79°39′09″
71 | 31°07′44″ | 79°40′21″
72 | 31°05′53″ | 79°41′27″
73 | 31°04′40″ | 79°42′09″
74 | 31°02′58″ | 79°42′28″
75 | 31°01′03″ | 79°42′40″
76 | 31°59′50″ | 79°42′43″
77 | 30°58′27″ | 79°42′43″
78 | 30°57′15″ | 79°42′50″
79 | 30°56′09″ | 79°43′28″
80 | 30°54′49″ | 79°44′53″
81 | 30°53′44″ | 79°46′24″
82 | 30°52′47″ | 79°47′40″
83 | 30°51′45″ | 79°48′16″
84 | 30°48′36″ | 79°49′02″
85 | 30°45′24″ | 79°49′55″
86 | 30°41′36″ | 79°51′31″
87 | 30°38′38″ | 79°52′23″
88 | 30°35′29″ | 79°52′54″
89 | 30°32′55″ | 79°54′19″
90 | 30°31′05″ | 79°55′27″
91 | 30°28′09″ | 79°56′06″
92 | 30°26′57″ | 79°56′34″
93 | 30°25′25″ | 79°57′36″
94 | 30°23′03″ | 79°58′25″
95 | 30°21′27″ | 79°59′24″
96 | 30°18′22″ | 80°00′09″
97 | 30°16′34″ | 80°00′33″
98 | 30°14′55″ | 80°00′23″
99 | 30°12′36″ | 80°01′44″
100 | 30°12′00″ | 80°01′49″
101 | 30°06′52″ | 80°01′58″
102 | 29°59′16″ | 80°04′11″
103 | 29°49′12″ | 80°05′44″
104 | 29°43′59″ | 80°06′24″
105 | 29°38′37″ | 80°06′53″
106 | 29°36′54″ | 80°07′18″
107 | 29°31′59″ | 80°07′32″
108 | 29°29′14″ | 80°07′18″
109 | 29°21′48″ | 80°05′01″
110 | 29°20′25″ | 80°04′29″
111 | 29°08′00″ | 79°59′43″
112 | 29°06′56″ | 79°59′07″
113 | 29°05′59″ | 79°58′44″
114 | 29°03′34″ | 79°57′37″
115 | 29°02′11″ | 79°56′59″
116 | 29°00′00″ | 79°55′32″
117 | 28°56′55″ | 79°54′22″
118 | 28°55′00″ | 79°53′31″
119 | 28°53′35″ | 79°52′51″
120 | 28°51′47″ | 79°52′07″
121 | 28°50′25″ | 79°51′27″
122 | 28°49′53″ | 79°51′20″
123 | 28°49′01″ | 79°51′20″
124 | 28°48′19″ | 79°51′10″
125 | 28°47′13″ | 79°50′59″
126 | 28°43′30″ | 79°50′36″
127 | 28°41′05″ | 79°50′04″
128 | 28°40′27″ | 79°50′07″
129 | 28°39′50″ | 79°49′56″
130 | 28°39′04″ | 79°49′58″
131 | 28°36′43″ | 79°49′35″
132 | 28°35′01″ | 79°49′24″
133 | 28°30′37″ | 79°48′35″
134 | 28°14′00″ | 79°46′20″
135 | 28°11′41″ | 79°46′12″
136 | 28°08′02″ | 79°45′45″
137 | 28°01′20″ | 79°45′20″
138 | 27°58′13″ | 79°44′51″
139 | 27°56′23″ | 79°44′53″
140 | 27°49′40″ | 79°44′25″
141 | 27°46′27″ | 79°44′22″
142 | 27°42′00″ | 79°44′33″
143 | 27°36′08″ | 79°44′58″
144 | 27°30′00″ | 79°45′29″
145 | 27°29′04″ | 79°45′47″
146 | 27°27′05″ | 79°45′54″
147 | 27°25′47″ | 79°45′57″
148 | 27°19′46″ | 79°45′14″
149 | 27°17′54″ | 79°45′12″
150 | 27°12′28″ | 79°45′00″
151 | 27°07′45″ | 79°46′07″
152 | 27°04′47″ | 79°46′29″
153 | 27°00′43″ | 79°46′39″
154 | 26°58′43″ | 79°46′28″
155 | 26°57′06″ | 79°46′32″
156 | 26°49′58″ | 79°46′54″
157 | 26°48′58″ | 79°46′56″
158 | 26°47′01″ | 79°47′09″
159 | 26°46′04″ | 79°47′09″
160 | 26°35′09″ | 79°48′01″
161 | 26°33′37″ | 79°48′21″
162 | 26°27′56″ | 79°49′09″
163 | 26°25′55″ | 79°49′30″
164 | 26°21′05″ | 79°50′03″
165 | 26°20′30″ | 79°50′20″
166 | 26°18′56″ | 79°50′17″
167 | 26°16′19″ | 79°54′06″
168 | 26°13′48″ | 79°54′48″
169 | 26°12′19″ | 79°55′37″
170 | 26°10′57″ | 79°57′05″
171 | 29°09′17″ | 79°58′45″
172 | 26°07′11″ | 80°00′22″
173 | 26°06′12″ | 80°00′33″
174 | 26°03′26″ | 80°01′02″
175 | 26°00′35″ | 80°01′13″
176 | 25°49′10″ | 80°00′38″
177 | 25°48′30″ | 80°00′23″
178 | 25°46′42″ | 79°59′14″
179 | 25°27′28″ | 80°02′26″
180 | 25°24′06″ | 80°01′44″
181 | 25°21′04″ | 80°01′27″
182 | 25°21′04″ | 79°42′04″

(B) The outer boundary of the EEZ in a northerly direction from Point 182 to the Origin.

(iv) Pourtales Terrace is bounded by—

(A) Rhumb lines connecting, in order, the following points:

Point | North lat. | West long.
Origin | 24°20′12″ | 80°43′50″
1 | 24°33′42″ | 80°34′23″
2 | 24°37′45″ | 80°31′20″
3 | 24°47′18″ | 80°23′08″
4 | 24°51′08″ | 80°27′58″
5 | 24°42′52″ | 80°35′51″
6 | 24°29′44″ | 80°49′45″
7 | 24°15′04″ | 81°07′52″
8 | 24°10′55″ | 80°58′11″

(B) The outer boundary of the EEZ in a northerly direction from Point 8 to the Origin.

(v) Blake Ridge Diapir is bounded by rhumb lines connecting, in order, the following points:

Point | North lat. | West long.
Origin | 32°32′28″ | 76°13′16″
1 | 32°30′44″ | 76°13′24″
2 | 32°30′37″ | 76°11′21″
3 | 32°32′21″ | 76°11′13″
Origin | 32°32′28″ | 76°13′16″

(2) Restrictions. In the Deepwater Coral HAPCs specified in paragraph (l)(1) of this section, no person may:

(i) Use a bottom longline, trawl (mid-water or bottom), dredge, pot, or trap.

(ii) If aboard a fishing vessel, anchor, use an anchor and chain, or use a grapple and chain.

(iii) Fish for coral or possess coral in or from the Deepwater Coral HAPC on board a fishing vessel.

(3) Shrimp fishery access areas. The provisions of paragraph (l)(2)(i) of this section notwithstanding, an owner or operator of a vessel for which a valid commercial vessel permit for rock shrimp (South Atlantic EEZ) has been issued may trawl for shrimp in the following portions of the Stetson-Miami Terrace Deepwater Coral HAPC:

(i) Shrimp access area A is bounded by rhumb lines connecting, in order, the following points:

Point | North lat. | West long.
Origin | 30°12′00″ | 80°01′49″
1 | 30°06′52″ | 80°01′58″
2 | 29°59′16″ | 80°04′11″
3 | 29°49′12″ | 80°05′44″
4 | 29°43′59″ | 80°06′24″
5 | 29°38′37″ | 80°06′53″
6 | 29°36′54″ | 80°07′18″
7 | 29°31′59″ | 80°07′32″
8 | 29°29′14″ | 80°07′18″
9 | 29°21′48″ | 80°05′01″
10 | 29°20′25″ | 80°04′29″
11 | 29°20′25″ | 80°03′11″
12 | 29°21′48″ | 80°03′52″
13 | 29°29′14″ | 80°06′08″
14 | 29°31′59″ | 80°06′23″
15 | 29°36′54″ | 80°06′00″
16 | 29°38′37″ | 80°05′43″
17 | 29°43′59″ | 80°05′14″
18 | 29°49′12″ | 80°04′35″
19 | 29°59′16″ | 80°03′01″
20 | 30°06′52″ | 80°00′46″
21 | 30°12′00″ | 80°00′42″
Origin | 30°12′00″ | 80°01′49″

(ii) Shrimp access area B is bounded by rhumb lines connecting, in order, the following points:

Point | North lat. | West long.
Origin | 29°08′00″ | 79°59′43″
1 | 29°06′56″ | 79°59′07″
2 | 29°05′59″ | 79°58′44″
3 | 29°03′34″ | 79°57′37″
4 | 29°02′11″ | 79°56′59″
5 | 29°00′00″ | 79°55′32″
6 | 28°56′55″ | 79°54′22″
7 | 28°55′00″ | 79°53′31″
8 | 28°53′35″ | 79°52′51″
9 | 28°51′47″ | 79°52′07″
10 | 28°50′25″ | 79°51′27″
11 | 28°49′53″ | 79°51′20″
12 | 28°49′01″ | 79°51′20″
13 | 28°48′19″ | 79°51′10″
14 | 28°47′13″ | 79°50′59″
15 | 28°43′30″ | 79°50′36″
16 | 28°41′05″ | 79°50′04″
17 | 28°40′27″ | 79°50′07″
18 | 28°39′50″ | 79°49′56″
19 | 28°39′04″ | 79°49′58″
20 | 28°36′43″ | 79°49′35″
21 | 28°35′01″ | 79°49′24″
22 | 28°30′37″ | 79°48′35″
23 | 28°30′37″ | 79°47′27″
24 | 28°35′01″ | 79°48′16″
25 | 28°36′43″ | 79°48′27″
26 | 28°39′04″ | 79°48′50″
27 | 28°39′50″ | 79°48′48″
28 | 28°40′27″ | 79°48′58″
29 | 28°41′05″ | 79°48′56″
30 | 28°43′30″ | 79°49′28″
31 | 28°47′13″ | 79°49′51″
32 | 28°48′19″ | 79°50′01″
33 | 28°49′01″ | 79°50′13″
34 | 28°49′53″ | 79°50′12″
35 | 28°50′25″ | 79°50′17″
36 | 28°51′47″ | 79°50′58″
37 | 28°53′35″ | 79°51′43″
38 | 28°55′00″ | 79°52′22″
39 | 28°56′55″ | 79°53′14″
40 | 29°00′00″ | 79°54′24″
41 | 29°02′11″ | 79°55′50″
42 | 29°03′34″ | 79°56′29″
43 | 29°05′59″ | 79°57′35″
44 | 29°06′56″ | 79°57′59″
45 | 29°08′00″ | 79°58′34″
Origin | 29°08′00″ | 79°59′43″

(iii) Shrimp access area C is bounded by rhumb lines connecting, in order, the following points:

Point | North lat. | West long.
Origin | 28°14′00″ | 79°46′20″
1 | 28°11′41″ | 79°46′12″
2 | 28°08′02″ | 79°45′45″
3 | 28°01′20″ | 79°45′20″
4 | 27°58′13″ | 79°44′51″
5 | 27°56′23″ | 79°44′53″
6 | 27°49′40″ | 79°44′25″
7 | 27°46′27″ | 79°44′22″
8 | 27°42′00″ | 79°44′33″
9 | 27°36′08″ | 79°44′58″
10 | 27°30′00″ | 79°45′29″
11 | 27°29′04″ | 79°45′47″
12 | 27°27′05″ | 79°45′54″
13 | 27°25′47″ | 79°45′57″
14 | 27°19′46″ | 79°45′14″
15 | 27°17′54″ | 79°45′12″
16 | 27°12′28″ | 79°45′00″
17 | 27°07′45″ | 79°46′07″
18 | 27°04′47″ | 79°46′29″
19 | 27°00′43″ | 79°46′39″
20 | 26°58′43″ | 79°46′28″
21 | 26°57′06″ | 79°46′32″
22 | 26°57′06″ | 79°44′52″
23 | 26°58′43″ | 79°44′47″
24 | 27°00′43″ | 79°44′58″
25 | 27°04′47″ | 79°44′48″
26 | 27°07′45″ | 79°44′26″
27 | 27°12′28″ | 79°43′19″
28 | 27°17′54″ | 79°43′31″
29 | 27°19′46″ | 79°43′33″
30 | 27°25′47″ | 79°44′15″
31 | 27°27′05″ | 79°44′12″
32 | 27°29′04″ | 79°44′06″
33 | 27°30′00″ | 79°43′48″
34 | 27°30′00″ | 79°44′22″
35 | 27°36′08″ | 79°43′50″
36 | 27°42′00″ | 79°43′25″
37 | 27°46′27″ | 79°43′14″
38 | 27°49′40″ | 79°43′17″
39 | 27°56′23″ | 79°43′45″
40 | 27°58′13″ | 79°43′43″
41 | 28°01′20″ | 79°44′11″
42 | 28°04′42″ | 79°44′25″
43 | 28°08′02″ | 79°44′37″
44 | 28°11′41″ | 79°45′04″
45 | 28°14′00″ | 79°45′12″
Origin | 28°14′00″ | 79°46′20″

(iv) Shrimp access area D is bounded by rhumb lines connecting, in order, the following points:

Point | North lat. | West long.
Origin | 26°49′58″ | 79°46′54″
1 | 26°48′58″ | 79°46′56″
2 | 26°47′01″ | 79°47′09″
3 | 26°46′04″ | 79°47′09″
4 | 26°35′09″ | 79°48′01″
5 | 26°33′37″ | 79°48′21″
6 | 26°27′56″ | 79°49′09″
7 | 26°25′55″ | 79°49′30″
8 | 26°21′05″ | 79°50′03″
9 | 26°20′30″ | 79°50′20″
10 | 26°18′56″ | 79°50′17″
11 | 26°18′56″ | 79°48′37″
12 | 26°20′30″ | 79°48′40″
13 | 26°21′05″ | 79°48′08″
14 | 26°25′55″ | 79°47′49″
15 | 26°27′56″ | 79°47′29″
16 | 26°33′37″ | 79°46′40″
17 | 26°35′09″ | 79°46′20″
18 | 26°46′04″ | 79°45′28″
19 | 26°47′01″ | 79°45′28″
20 | 26°48′58″ | 79°45′15″
21 | 26°49′58″ | 79°45′13″
Origin | 26°49′58″ | 79°46′54″

(4) Golden crab fishery access areas. The provisions of paragraphs (l)(2)(i) and (ii) of this section notwithstanding, an owner or operator of a vessel for which a valid commercial permit for South Atlantic golden crab has been issued may use a trap to fish for golden crab and use a grapple and chain while engaged in such fishing in the following portions of the Stetson-Miami Terrace and the Pourtales Terrace Deepwater Coral HAPCs. Access to an area specified in paragraph (l)(4)(i) through (v) of this section is contingent on that zone being authorized on the vessel's permit for South Atlantic golden crab. See § 622.17(b) of this part for specification of zones.

(i) Golden crab northern zone access area is bounded by rhumb lines connecting, in order, the following points:

Point | North lat. | West long.
Origin | 29°00′00″ | 79°54′24″
1 | 28°56′55″ | 79°53′14″
2 | 28°55′00″ | 79°52′22″
3 | 28°53′35″ | 79°51′43″
4 | 28°51′47″ | 79°50′58″
5 | 28°50′25″ | 79°50′17″
6 | 28°49′53″ | 79°50′12″
7 | 28°49′01″ | 79°50′13″
8 | 28°48′19″ | 79°50′01″
9 | 28°47′13″ | 79°49′51″
10 | 28°43′30″ | 79°49′28″
11 | 28°41′05″ | 79°48′56″
12 | 28°40′27″ | 79°48′58″
13 | 28°39′50″ | 79°48′48″
14 | 28°39′04″ | 79°48′50″
15 | 28°36′43″ | 79°48′27″
16 | 28°35′01″ | 79°48′16″
17 | 28°30′37″ | 79°47′27″
18 | 28°30′37″ | 79°42′12″
19 | 28°14′00″ | 79°40′54″
20 | 28°14′00″ | 79°45′12″
21 | 28°11′41″ | 79°45′04″
22 | 28°08′02″ | 79°44′37″
23 | 28°04′42″ | 79°44′25″
24 | 28°01′20″ | 79°44′11″
25 | 28°00′00″ | 79°43′59″
26 | 28°00′00″ | 79°38′16″
27 | 28°11′42″ | 79°38′13″
28 | 28°23′02″ | 79°38′57″
29 | 28°36′50″ | 79°40′25″
30 | 28°38′33″ | 79°41′33″
31 | 28°38′20″ | 79°43′04″
32 | 28°41′00″ | 79°43′39″
33 | 28°48′16″ | 79°44′32″
34 | 28°54′29″ | 79°45′55″
35 | 29°00′00″ | 79°45′50″
Origin | 29°00′00″ | 79°54′24″

(ii) Golden crab middle zone access area A is bounded by—

(A) Rhumb lines connecting, in order, the following points:

Point | North lat. | West long.
Origin | 26°58′45″ | 79°35′05″
1 | 27°00′39″ | 79°36′26″
2 | 27°07′55″ | 79°37′52″
3 | 27°14′52″ | 79°37′09″
4 | 27°29′21″ | 79°37′15″
5 | 28°00′00″ | 79°38′16″
6 | 28°00′00″ | 79°43′59″
7 | 27°58′13″ | 79°43′43″
8 | 27°56′23″ | 79°43′45″
9 | 27°49′40″ | 79°43′17″
10 | 27°46′27″ | 79°43′14″
11 | 27°42′00″ | 79°43′25″
12 | 27°36′08″ | 79°43′50″
13 | 27°30′00″ | 79°44′22″
14 | 27°30′00″ | 79°43′48″
15 | 27°29′04″ | 79°44′06″
16 | 27°27′05″ | 79°44′12″
17 | 27°25′47″ | 79°44′15″
18 | 27°19′46″ | 79°43′33″
19 | 27°17′54″ | 79°43′31″
20 | 27°12′28″ | 79°43′19″
21 | 27°07′45″ | 79°44′26″
22 | 27°04′47″ | 79°44′48″
23 | 27°00′43″ | 79°44′58″
24 | 26°58′43″ | 79°44′47″
25 | 26°57′06″ | 79°44′52″
26 | 26°57′06″ | 79°42′34″
27 | 26°49′58″ | 79°42′34″
28 | 26°49′58″ | 79°45′13″
29 | 26°48′58″ | 79°45′15″
30 | 26°47′01″ | 79°45′28″
31 | 26°46′04″ | 79°45′28″
32 | 26°35′09″ | 79°46′20″
33 | 26°33′37″ | 79°46′40″
34 | 26°27′56″ | 79°47′29″
35 | 26°25′55″ | 79°47′49″
36 | 26°21′05″ | 79°48′08″
37 | 26°20′30″ | 79°48′40″
38 | 26°18′56″ | 79°48′37″
39 | 26°03′38″ | 79°48′16″
40 | 26°03′35″ | 79°46′09″
41 | 25°58′33″ | 79°46′08″
42 | 25°54′27″ | 79°45′37″
43 | 25°46′55″ | 79°44′14″
44 | 25°38′04″ | 79°45′58″
45 | 25°38′05″ | 79°42′27″

(B) The outer boundary of the EEZ in a northerly direction from Point 45 to Point 46.

(C) Rhumb lines connecting, in order, the following points:

Point | North lat. | West long.
46 | 26°07′49″ | 79°36′07″
47 | 26°17′36″ | 79°36′06″
48 | 26°21′18″ | 79°38′04″
49 | 26°50′46″ | 79°35′12″
50 | 26°50′40″ | 79°33′45″

(D) The outer boundary of the EEZ in a northerly direction from Point 50 to the Origin.

(iii) Golden crab middle zone access area B is bounded by rhumb lines connecting, in order, the following points:

Point | North lat. | West long.
Origin | 25°49′10″ | 80°00′38″
1 | 25°48′30″ | 80°00′23″
2 | 25°46′42″ | 79°59′14″
3 | 25°27′28″ | 80°02′26″
4 | 25°24′06″ | 80°01′44″
5 | 25°21′04″ | 80°01′27″
6 | 25°21′04″ | 79°58′12″
7 | 25°23′25″ | 79°58′19″
8 | 25°32′52″ | 79°54′48″
9 | 25°36′58″ | 79°54′46″
10 | 25°37′20″ | 79°56′20″
11 | 25°49′11″ | 79°56′00″
Origin | 25°49′10″ | 80°00′38″

(iv) Golden crab middle zone access area C is bounded by—

(A) Rhumb lines connecting, in order, the following points:

Point | North lat. | West long.
Origin | 25°33′32″ | 79°42′18″
1 | 25°33′32″ | 79°47′14″
2 | 25°21′04″ | 79°53′45″
3 | 25°21′04″ | 79°42′04″

(B) The outer boundary of the EEZ in a northerly direction from Point 3 to the Origin.

(v) Golden crab southern zone access area is bounded by—

(A) Rhumb lines connecting, in order, the following points:

Point | North lat. | West long.
Origin | 24°14′07″ | 80°53′27″
1 | 24°13′46″ | 81°04′54″
2 | 24°10′55″ | 80°58′11″

(B) The outer boundary of the EEZ in a northerly direction from Point 2 to the Origin.

[FR Doc. 2010-6764 Filed 3-25-10; 8:45 am]

BILLING CODE 3510-22-P